SURFACE TRANSPORTATION BOARD

[Docket No. AB 193 (Sub-No. 3X)]

Canton Railroad Company—Abandonment Exemption—in Baltimore City, MD

On January 29, 2019, Canton Railroad Company (Canton Railroad) filed with the Surface Transportation Board (Board) a petition under 49 U.S.C. 10502 for exemption from the prior approval requirements of 49 U.S.C. 10903 to abandon approximately 1,200 linear feet (0.23 miles) of rail line located in Baltimore City, MD. (the Line).¹ Canton Railroad states that the Line has no milepost or station designations and is sometimes referred to as the OverFlo Track. The Line traverses U.S. Postal Service ZIP Code 21224.

¹ Canton Railroad filed a supplement to its petition for exemption on February 7, 2019.

According to Canton Railroad, the last freight service on the Line occurred on December 12, 2017, and shortly thereafter, the only shipper on the Line sold its property to 601 Haven Street LLC (Haven), which does not desire rail service. Canton Railroad states that, following abandonment, it plans to sell the right-of-way to Haven. In a letter appended as Exhibit B to the petition, Haven states that it fully supports the proposed abandonment, which will facilitate its purchase of the right-of-way for non-rail use.

Canton Railroad states that, based on the information in its possession, the Line does not contain federally granted rights-of-way, and any documentation in Canton Railroad's possession will be made available promptly to those requesting it.

The interest of railroad employees will be protected by the conditions set forth in Oregon Short Line Railroad—Abandonment Portion Goshen Branch between Firth & Ammon, in Bingham & Bonneville Counties, Idaho, 360 I.C.C. 91 (1979).

By issuing this notice, the Board is instituting an exemption proceeding pursuant to 49 U.S.C. 10502(b). A final decision will be issued by May 17, 2019.

Any offer of financial assistance (OFA) under 49 CFR 1152.27(b)(2) will be due no later than 10 days after service of a decision granting the petition for exemption.² Each OFA must be accompanied by a $1,800 filing fee. See 49 CFR 1002.2(f)(25).

² The Board modified its OFA procedures effective July 29, 2017. Among other things, the OFA process now requires potential offerors in all abandonment and discontinuance proceedings to file a formal expression of intent to file an offer. The process also requires potential offerors, in their formal expression of intent, to make a preliminary financial responsibility showing based on a calculation using information contained in the carrier's filing and publicly available information. See Offers of Financial Assistance, EP 729 (STB served June 29, 2017); 82 FR 30997 (July 5, 2017).

All interested persons should be aware that, following abandonment, the Line may be suitable for other public use, including interim trail use. Any request for a public use condition under 49 CFR 1152.28 or for trail use/rail banking under 49 CFR 1152.29 will be due no later than March 7, 2019. Each trail request must be accompanied by a $300 filing fee. See 49 CFR 1002.2(f)(27).

All filings in response to this notice must refer to Docket No. AB 193 (Sub-No. 3X) and must be sent to: (1) Surface Transportation Board, 395 E Street SW, Washington, DC 20423-0001; and (2) Rose-Michele Nardi, Baker & Miller PLLC, 2401 Pennsylvania Avenue NW, Suite 300, Washington, DC 20037. Replies to the petition are due on or before March 7, 2019.

Persons seeking further information concerning abandonment procedures may contact the Board's Office of Public Assistance, Governmental Affairs, and Compliance (OPAGAC) at 202-245-0238 or refer to the full abandonment regulations at 49 CFR part 1152. Questions concerning environmental issues may be directed to the Board's Office of Environmental Analysis (OEA) at 202-245-0305. Assistance for the hearing impaired is available through the Federal Relay Service (FRS) at 1-800-877-8339.

An environmental assessment (EA) (or environmental impact statement (EIS), if necessary) prepared by OEA will be served upon all parties of record and upon any other agencies or persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: February 11, 2019.
By the Board, Allison C. Davis, Acting Director, Office of Proceedings.
Jeffrey Herzig,
Clearance Clerk.

[FR Doc. 2019-02361 Filed 2-14-19; 8:45 am]

BILLING CODE 4915-01-P